DEPARTMENT OF TRANSPORTATION

Federal Aviation Administration

[Dockets No. FAA-2001-9852; No. FAA-2001-9854]

Notice of Alternative Policy Options for Managing Capacity at LaGuardia Airport and Proposed Extension of the Lottery Allocation; Correction

AGENCY: Federal Aviation Administration (FAA), DOT.

ACTION: Request for comments on alternative policy options for managing capacity and mitigating congestion and delay at LaGuardia Airport (LGA) and the proposed extension of the lottery allocation; Correction.

SUMMARY: This is a correction to an FAA notice that was published on June 12, 2001 (66 FR 31731). That notice requested comments on the feasibility and effectiveness of a limited number of demand management options that could replace the current temporary administrative limits on the number of aircraft operations at LGA which are scheduled to expire on September 15, 2001. The reasons for this correction is that the Port Authority of New York and New Jersey is making a correction in section 3 of the document that it submitted to the FAA, which was attached as an appendix to the June 12, 2001, Federal Register notice.

FOR FURTHER INFORMATION CONTACT: Rich Yarges, telephone (425) 227-2143.

Correction

In the Federal Register notice FR Doc. 01-14739, published on June 12, 2001 (66 FR 31731), make the following corrections:

1. On page 31737, column 2, in lines 44-45 under section (2), A Potential Auction Based Approach, remove the phrase “and AIR-21 slot exemptions”.

2. On page 31737, column 3, in lines 2-3, remove the phrase “and AIR-21 slot exemptions”.

3. On page 31745, column 3, in lines 18-19 under section 3. Allocation and Auction of Reservations, remove the phrase “and AIR-21 slot exemptions”.

Issued in Washington, DC on June 14, 2001.
Louise Maillett,
Acting Assitant Administrator for Policy, Planning, and International Aviation.

[FR Doc. 01-15487 Filed 6-19-01; 8:45 am]

BILLING CODE 4910-13-M